DEPARTMENT OF THE TREASURY

Internal Revenue Service

26 CFR Part 31

[REG-148568-04]

RIN 1545-BD93

Time for Filing Employment Tax Returns and Modifications to the Deposit Rules

Correction

In proposed rule document 05-24563 beginning on page 46 in the issue of Tuesday, January 3, 2006, make the following correction:

On page 46, in the third column, under the heading FOR FURTHER INFORMATION CONTACT, in the eighth line, “(not a toll-free numbers)” should read “(not toll-free numbers)”.

[FR Doc. C5-24563 Filed 3-16-06; 8:45 am]

BILLING CODE 1505-01-D